DEPARTMENT OF HEALTH AND HUMAN SERVICES

National Institutes of Health

Center for Scientific Review; Amended Notice of Meeting

Notice is hereby given of a change in the meeting of the Cellular Signaling and Dynamics, June 9, 2005, 8 a.m. to June 10, 2005, 5 p.m. Holiday Inn Chevy Chase, 5520 Wisconsin Avenue, Chevy Chase, MD, 20815 which was published in the Federal Register on May 11, 2005, 70 FR 24829-24832.

The meeting will be held at the Holiday Inn Georgetown, 2101 Wisconsin Avenue, NW., Washington, DC 20007. The meeting dates and time remain the same. The meeting is closed to the public.

Dated: May 17, 2005.
LaVerne Y. Stringfield,
Director, Office of Federal Advisory Committee Policy.

[FR Doc. 05-10520 Filed 5-25-05; 8:45 am]

BILLING CODE 4140-01-M